DEPARTMENT OF THE TREASURY

Customs Service

19 CFR Part 12

[T.D. 01-06]

RIN 1515-AC66

Import Restrictions Imposed on Archaeological Material Originating in Italy and Representing the Pre-Classical, Classical, and Imperial Roman Periods

AGENCY: Customs Service, Treasury.

ACTION: Final rule.

SUMMARY: This document amends the Customs Regulations to reflect the imposition of import restrictions on certain archaeological material originating in Italy and representing the pre-Classical, Classical, and Imperial Roman periods of its cultural heritage, ranging in date from approximately the 9th century B.C. through approximately the 4th century A.D. These restrictions are being imposed pursuant to an agreement between the United States and Italy that has been entered into under the authority of the Convention on Cultural Property Implementation Act in accordance with the United Nations Educational, Scientific and Cultural Organization (UNESCO) Convention on the Means of Prohibiting and Preventing the Illicit Import, Export and Transfer of Ownership of Cultural Property. The document amends the Customs Regulations by adding Italy to the list of countries for which an agreement has been entered into for imposing import restrictions. The document also contains the Designated List of Archaeological Material that describes the types of articles to which the restrictions apply.

EFFECTIVE DATE: January 23, 2001.

FOR FURTHER INFORMATION CONTACT: (Legal Aspects) Joseph Howard, Intellectual Property Rights Branch (202) 927-2336; (Operational Aspects) Al Morawski, Trade Operations (202) 927-0402.

SUPPLEMENTARY INFORMATION:

Background

The value of cultural property, whether archaeological or ethnological in nature, is immeasurable. Such items often constitute the very essence of a society and convey important information concerning a people's origin, history, and traditional setting. The importance and popularity of such items regrettably makes them targets of theft, encourages clandestine looting of archaeological sites, and results in their illegal export and import.

The U.S. shares in the international concern for the need to protect endangered cultural property. The appearance in the U.S. of stolen or illegally exported artifacts from other countries where there has been pillage has, on occasion, strained our foreign and cultural relations. This situation, combined with the concerns of museum, archaeological, and scholarly communities, was recognized by the President and Congress. It became apparent that it was in the national interest for the U.S. to join with other countries to control illegal trafficking of such articles in international commerce.

The U.S. joined international efforts and actively participated in deliberations resulting in the 1970 UNESCO Convention on the Means of Prohibiting and Preventing the Illicit Import, Export and Transfer of Ownership of Cultural Property (823 U.N.T.S. 231 (1972)). U.S. acceptance of the 1970 UNESCO Convention was codified into U.S. law as the “Convention on Cultural Property Implementation Act” (Pub. L. 97-446, 19 U.S.C. 2601 et seq.) (“the Act”). This was done to promote U.S. leadership in achieving greater international cooperation towards preserving cultural treasures that are of importance to the nations from where they originate and to achieving greater international understanding of mankind's common heritage.

During the past several years, import restrictions have been imposed on archaeological and ethnological artifacts of a number of signatory nations. These restrictions have been imposed as a result of requests for protection received from those nations as well as pursuant to bilateral agreements between the United States and other countries. More information on import restrictions can be found on the International Cultural Property Protection web site (http://exchanges.state.gov/education/culprop).

Import restrictions are now being imposed on certain archaeological material of Italy representing the pre-Classical, Classical, and Imperial Roman periods of its cultural heritage as the result of a bilateral agreement entered into between the United States and Italy. This agreement was entered into on January 19, 2001, pursuant to the provisions of 19 U.S.C. 2602. Accordingly, § 12.104g(a) of the Customs Regulations is being amended to indicate that restrictions have been imposed pursuant to the agreement between the United States and Italy. This document amends the regulations by imposing import restrictions on certain archaeological material from Italy as described below.

Material Encompassed in Import Restrictions

In reaching the decision to recommend protection for Italy's cultural patrimony, the Assistant Secretary of State for Educational and Cultural Affairs, U.S. Department of State, determined that, pursuant to the requirements of the Act, the cultural patrimony of Italy is in jeopardy from the pillage of archaeological materials which represent its pre-Classical, Classical and Imperial Roman heritage, and that such pillage is widespread, definitive, systematic, on-going, and frequently associated with criminal activity. Dating from approximately the 9th century B.C. to approximately the 4th century A.D., categories of restricted artifacts include stone sculpture, metal sculpture, metal vessels, metal ornaments, weapons/armor, inscribed/decorated sheet metal, ceramic sculpture and vessels, glass architectural elements and sculpture, and wall paintings. These materials are of cultural significance because they derive from cultures that developed autonomously in the region of present day Italy that attained a high degree of political, technological, economic, and artistic achievement. The pillage of these materials from their context has prevented the fullest possible understanding of Italian cultural history by systematically destroying the archaeological record. Furthermore, the cultural patrimony represented by these materials is a source of identity and esteem for the modern Italian nation.

Designated List

The bilateral agreement between Italy and the United States covers the categories of artifacts described in a Designated List of Archaeological Material from Italy, which is set forth below. Importation of articles on this list is restricted unless the articles are accompanied by an appropriate export certificate issued by the Government of the Republic of Italy or documentation demonstrating that the articles left the country of origin prior to the effective date of the import restriction.

Archaeological Material From Italy Representing Pre-Classical, Classical, and Imperial Roman Periods Ranging in Date Approximately From the 9th Century B.C. to the 4th Century A.D.

I. Stone

A. Sculpture

1. Architectural Elements—In marble, limestone, steatite, basalt, tufa and other types of stone. Types include abacus, acroterion, antefix, architrave, bacino, base, capital, caryatid, coffer, clipeus, column, crowning, fountain, frieze, pediment, drip molding, pilaster, mask, corbel, metope, mosaic and inlay, pluteus, pulvinar, puteal, jamb, tile, telamon, tympanum, trabeation, transenna, basin, wellhead. Approximate date: 7th century B.C. to 4th century A.D.

2. Architectural and Non-architectural Relief Sculpture—In marble and other stone. Types include carved slabs with figural, vegetative, floral, or decorative motifs, sometimes inscribed, and carved relief vases. Used for architectural decoration, funerary, votive, or commemorative monuments. Approximate date: 2nd century B.C. to 4th century A.D.

3. Monuments—In marble, limestone, and other types of stone. Types include altar and shrine, cippus, funerary stele, and milestones with figural reliefs or decorative moldings. Some have dedicatory inscriptions. Approximate date: 7th century B.C. to 4th century A.D.

4. Sepulchers—In marble, peperino, alabaster, limestone, and tufa. Types of burial containers including urns, caskets, and sarcophagi. Some have figural scenes carved in relief or decorative moldings. Approximate date: 7th century B.C. to 4th century A.D.

5. Large Statuary—Primarily in marble, including fragments of statues. Subject matter includes human and animal figures and groups of figures in the round. Common types are large-scale, free-standing statuary from approximately 1 m to 2.5 m in height and life-size busts (head and shoulders of an individual). Approximate date: 6th century B.C. to 4th century A.D.

II. Metal

A. Sculpture

1. Large Statuary—Large-scale statues or fragments of statues in bronze or other metals, including animal figures, human and divine figures, and life-size metal busts or portrait heads. Approximate date: 6th century B.C. to 4th century A.D.

2. Small Statuary—Iron Age Sardinian (Nuragic) and Etruscan figurines in bronze and other metals. Approximate date: 8th to 3rd century B.C.

B. Vessels

Open and closed vessels in bronze, gold, or silver, often with incised, embossed, and molded decoration in the shape of human or animal figures. Shapes include bowls, buckets, craters, pitchers, cups, and lamps, etc. Approximate date: 8th century B.C. to 4th century A.D.

C. Personal Ornaments

Etruscan and Italic rings, necklaces, earrings, crowns, bracelets, buckles, belts, pins, chains of gold, silver, bronze, and iron Approximate date: 8th to 3rd century B.C.

D. Weapons and Armor

Body armor, including helmets, cuirasses, shin guards, and shields, and horse armor often decorated with elaborate engraved, embossed, or perforated designs. Elaborate horse armor is also produced during the same period. Both launching weapons (spears and javelins) and weapons for hand to hand combat (swords, daggers, etc.). Approximate date: 8th century B.C. to 4th century A.D.

E. Inscribed or Decorated Sheet Metal

Engraved inscriptions often found in funerary contexts and thin metal sheets with engraved or impressed designs often used as attachments to furniture. Approximate date: 7th century B.C. to 4th century A.D.

III. Ceramic

A. Sculpture

1. Architectural Elements—Baked clay (terracotta) elements used to decorate buildings. These are most often found in Etruria, Latium, Sicily, and Magna Graecia. Elements include acroteria, antefixes, relief plaques, metopes, and revetments. Approximate date: 7th century to 1st century B.C.

2. Monuments—Altars and urns decorated with relief scenes. Approximate date: 5th century B.C. to 4th century A.D.

3. Large Statuary—Large-scale human and animal figures, life-size portrait heads, and life-size votive objects, including fragments of statues. These are often found in temples and sanctuaries in Magna Graecia, Etruria, and Latium. Approximate date: 7th century to 1st century B.C.

4. Objects with Relief Decoration—Plaques, tables, and other terracotta objects (masks) with relief decoration. Approximate date: 6th to 4th century B.C.

B. Vessels

1. Local Vessels. a. Etruscan—Decorated ceramic vessels produced by Etruscan culture, including Villanovan; Orientalizing pottery with imitations of Near Eastern designs painted on local hand-made vessels; archaic Etruscan painted pottery with polychrome decoration; archaic Etruscan painted pottery with polychrome decoration; funerary and cinerary vessels; Italo-Geometric pottery where production from local Etruscan workshops imitated Greek Geometric; bucchero made with a characteristic soft black paste and polished surface whose highly decorative shapes often imitate metal vessels; local imitations of black and red figure Attic; Etruscan imitations of Corinthian pottery; pottery with black glaze and orange stripes that imitates Ionic pottery; amphora in the Pontic style with painted figural decoration made by a single workshop of immigrant Ionic potters in Vulci, Etruria; Caeretan hydria attributed to a workshop of Greek immigrants working near Caere, Etruria. Approximate date: 9th century to 3rd century B.C.

b. South Italian and Italic—Decorated vessels locally produced, including hand-made Daunian pottery from northern Apulia; Italiote red figure pottery of Attic derivation produced in Apulian, Lucania, Campania, and Paestum; wheel-made pottery with elaborate applied relief and painted decoration made in Centuripe, Catania; pottery with plastic and polychrome decoration produced in Sicily and Magna Graecia; gilded pottery with a characteristic ochre yellow color imitating artifacts in bronze, mainly found in tombs in Apulia; Faliscan pottery in imitation of Attic red figure, often in oversize vessels; Gnathian pottery, named after Egnatia in Apulia and decorated in white and yellow with touches of red over a black background; overpainted pottery with a shiny black glaze; pottery overpainted with white, yellow, or red designs in imitation of Attic red figure; Messapian pottery, locally produced in Apulia and decorated with monochrome (one color) or bichrome painting (two color). Approximate date: 8th to 3rd century B.C.

2. Imported Vessels. a. Attic Black Figure, Red Figure and White Ground Pottery—These are made in a specific set of shapes (amphorae, craters, hydriae, oinochoi, kylikes) decorated with black painted figures on a clear clay ground (Black Figure), decorative elements in reserve with background fired black (Red Figure), and multi-colored figures painted on a white ground (White Ground). Attic pottery was widely exported, particularly to southern Italy, where it is commonly found in burials. Approximate date: 6th to 4th century B.C.

b. Corinthian Pottery—Painted pottery made in Corinth in a specific range of shapes for perfume and unguents and for drinking or pouring liquids. The very characteristic painted and incised designs depict figural scenes, rows of animals, and floral decoration. Corinthian pottery was exported throughout the Mediterranean, but particularly to Etruria and southern Italy. Approximate date: 8th to 6th century B.C.

IV. Glass

A. Architectural Elements—Mosaics and glass windows. Approximate date: 4th century B.C. to 4th century A.D.

B. Sculpture

1. Intarsia—Cut or carved glass decorative elements to inset in furniture. Approximate date: 2nd century B.C. to 4th century A.D.

2. Small Statuary—Glass animal statuettes as amulets or knickknacks. Approximate date: 2nd century B.C. to 4th century A.D.

V. Painting

A. Wall Painting

1. Domestic and Public Wall Painting—Beginning in about 200 B.C. wall painting in private and public buildings is characterized by imitation of stucco or marble design. Later developments include “architectural” style, “ornamental” style, and “fantastic” style. Triumphal painting in temples and public buildings illustrate military campaigns and conquered lands. Approximate date: 3rd century B.C. to 4th century A.D.

2. Tomb Paintings—Early tomb paintings are primarily found in Etruria and Southern Italy. These paintings were directly influenced by Greek painters, but illustrate local style. Scenes often illustrate funerary celebrations, rites, symbols, and daily events. Roman funerary painting is also inspired by Greek painting, but also develops from domestic and public types of wall painting. Approximate date: 6th century B.C. to 4th century A.D.

Inapplicability of Notice and Delayed Effective Date

Because the amendment to the Customs Regulations contained in this document imposing import restrictions on the above-listed cultural property of Italy is being made in response to a bilateral agreement entered into in furtherance of the foreign affairs interests of the United States, pursuant to section 553(a)(1) of the Administrative Procedure Act, (5 U.S.C. 553(a)(1)), no notice of proposed rulemaking or public procedure is necessary. For the same reason, a delayed effective date is not required pursuant to 5 U.S.C. 553(d)(3).

Regulatory Flexibility Act

Because no notice of proposed rulemaking is required, the provisions of the Regulatory Flexibility Act (5 U.S.C. 601 et seq.) do not apply. Accordingly, this final rule is not subject to the regulatory analysis or other requirements of 5 U.S.C. 603 and 604.

Executive Order 12866

This amendment does not meet the criteria of a “significant regulatory action” as described in E.O. 12866.

Drafting Information

The principal author of this document was Bill Conrad, Regulations Branch, Office of Regulations and Rulings, U.S. Customs Service. However, personnel from other offices participated in its development.

List of Subjects in 19 CFR Part 12

Customs duties and inspections, Imports, Cultural property.

Amendment to the Regulations

Accordingly, Part 12 of the Customs Regulations (19 CFR Part 12) is amended as set forth below:

PART 12—[AMENDED]

1. The general authority and specific authority citations for Part 12, in part, continue to read as follows:

Authority: 5 U.S.C. 301, 19 U.S.C. 66, 1202 (General Note 22, Harmonized Tariff Schedule of the United States (HTSUS)), 1624;

* * * * *

Sections 12.104 through 12.104i also issued under 19 U.S.C. 2612;

* * * * *

§ 12.104g [Amended]

2. In § 12.104g, paragraph (a), the list of agreements imposing import restrictions on described articles of cultural property of State Parties, is amended by adding Italy in appropriate alphabetical order as follows:

State | Cultural property | T.D. No.
* * * * * * *
Italy | Archaeological Material of pre-Classical, Classical, and Imperial Roman periods ranging approximately from the 9th century B.C. to the 4th century A.D. | T.D. 01-06
* * * * * * *

* * * * *

Raymond W. Kelly,
Commissioner of Customs.
Timothy E. Skud,
Acting Deputy Assistant Secretary of the Treasury.

[FR Doc. 01-2127 Filed 1-19-01; 1:18 pm]

BILLING CODE 4820-02-P